DEPARTMENT OF COMMERCE

International Trade Administration

(A-475-818)

Certain Pasta from Italy: Notice of Extension of Final Results of Antidumping Duty Changed Circumstances Review

AGENCY: Import Administration, International Trade Administration, Department of Commerce.

EFFECTIVE DATE: August 12, 2008.

FOR FURTHER INFORMATION CONTACT: Eric B. Greynolds, AD/CVD Operations, Office 3, Import Administration, International Trade Administration, U.S. Department of Commerce, Room 4014, 14th Street and Constitution Ave., NW, Washington, DC 20230, telephone: (202) 482-6071.

SUPPLEMENTARY INFORMATION:

Background

On November 19, 2007, the Department of Commerce (the Department) published its notice of initiation of antidumping duty changed circumstances review. See Certain Pasta from Italy: Notice of Initiation of Antidumping Duty Changed Circumstances Review, 72 FR 65010 (November 19, 2007) (Initiation). On February 22, 2008, the Department published its notice of preliminary results of CCR and intent to reinstate the antidumping duty order. See Certain Pasta from Italy: Notice of Preliminary Results of Antidumping Duty Changed Circumstances Review and Intent to Reinstate the Antidumping Duty Order, 73 FR 9769 (February 22, 2008). The final results are currently due no later than August 5, 2008.

Extension of Time Limit for Preliminary Results

Under 19 CFR 351.216(e), the Department will issue the final results of a changed CCR within 270 days after the date on which the Department initiates the changed circumstances review. Currently, the final results of the antidumping duty CCR, which cover Pasta Lensi S.r.L. (Lensi), a producer/exporter of pasta from Italy, and American Italian Pasta Company (AIPC), Lensi's corporate parent and importer of subject merchandise produced by Lensi, are due by August 5, 2008. Lensi and AIPC have requested that the Department meet with their representatives on August 11, 2008, which is after the current deadline of the final results of the CCR. Due to the Department's decision to accommodate the request of Lensi and AIPC and in accordance with 19 CFR 351.302(b), we are extending the due date of the final results of by 60 days. Therefore, the final results of the CCR are now due no later than October 6, 2008.¹

¹ Day 60 falls on a Saturday. Therefore, we are extending the due date of final results to the following business day, which is Monday, October 6, 2008.

This notice is issued and published in accordance with sections 751(b) and 777(i) of the Tariff Act of 1930, as amended.

Dated: August 5, 2008.
Gary Taverman,
Acting Deputy Assistant Secretary for Import Administration.

[FR Doc. E8-18624 Filed 8-11-08; 8:45 am]

BILLING CODE 3510-DS-S